FEDERAL RESERVE SYSTEM

Consumer Advisory Council

ACTION: Notice of Meeting of Consumer Advisory Council

SUMMARY: The Consumer Advisory Council will meet on Thursday, October 24, 2002. The meeting, which will be open to public observation, will take place at the Federal Reserve Board's offices in Washington, DC, in Dining Room E on the Terrace level of the Martin Building. Anyone planning to attend the meeting should, for security purposes, register no later than Tuesday, October 22, by completing the form found on-line at: http://www.federalreserve.gov/forms/cacregistration.cfm. Additionally, attendees must present photo identification to enter the building.

The meeting will begin at 9:00 a.m. and is expected to conclude at 1:00 p.m. The Martin Building is located on C Street, NW, between 20th and 21st Streets.

The Council's function is to advise the Board on the exercise of the Board's responsibilities under various consumer financial services laws and on other matters on which the Board seeks its advice. Time permitting, the Council will discuss the following topics:

Real Estate Settlement Procedures Act: Discussion of aspects of the proposed revisions by the Department of Housing and Urban Development to the rules implementing the Real Estate Settlement Procedures Act.

Identify Theft: Discussion of deterrence options for identify theft.

Access to Credit Cards: Discussion of access to credit by consumers who may not have the ability to repay, particularly students.

Committee Reports: Council committees will report on their work.

Other matters initiated by Council members also may be discussed.

ADDRESSES: Persons wishing to submit views to the Council on any of the above topics may do so by sending written statements to Ann Bistay, Secretary of the Consumer Advisory Council, Division of Consumer and Community Affairs, Board of Governors of the Federal Reserve System, Washington, DC 20551. Information about this meeting may be obtained from Ms. Bistay, 202-452-6470.

Board of Governors of the Federal Reserve System, September 26, 2002.

Jennifer J. Johnson,
Secretary of the Board.

[FR Doc. 02-25038 Filed 10-1-02; 8:45 am]

BILLING CODE 6210-01-S